DEPARTMENT OF ENERGY

Federal Energy Regulatory Commission

[Docket No. RP02-90-000]

El Paso Natural Gas Company; Notice of Tariff Filing

December 6, 2001.

Take notice that on November 30, 2001, El Paso Natural Gas Company (El Paso) tendered for filing as part of its FERC Gas Tariff, the following tariff sheets, with an effective date of January 1, 2002:

Second Revised Volume No. 1-A

Twenty-Third Revised Sheet No. 20

Sixteenth Revised Sheet No. 22

Twenty-Second Revised Sheet No. 23

Twenty-Seventh Revised Sheet No. 24

Twenty-Second Revised Sheet No. 26

Twenty-Second Revised Sheet No. 27

Seventeenth Revised Sheet No. 28

Ninth Revised Sheet No. 37

Ninth Revised Sheet No. 38

Eighth Revised Sheet No. 256

Eighth Revised Sheet No. 257

Third Revised Volume No. 2

Fifty-First Revised Sheet No. 1-D.2

Forty-Fifth Revised Sheet No. 1-D.3

El Paso states that the filing is being made in compliance with the Commission's order issued September 19, 2001 at Docket No. RP01-434-000. El Paso states the tariff sheets are being filed to revise the Gas Research Institute surcharges and to update the identification of low and high load factor shippers.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30722 Filed 12-11-01; 8:45 am]

BILLING CODE 6717-01-P